DEPARTMENT OF HOUSING AND URBAN DEVELOPMENT

[Docket No. FR-7075-N-10]

60-Day Notice of Proposed Information Collection: Data Collection for HUD's Innovative Housing Showcase; OMB Control No.: 2528-NEW

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 14, 2023.

ADDRESSES: Interested persons are invited to submit comments regarding this proposal. Written comments and recommendations for the proposed information collection can be submitted within 60 days of publication of this notice to www.reginfo.gov/public/do/PRAMain. Find this particular information collection by selecting, “Currently under 60-day Review—Open for Public Comments” or by using the search function. Interested persons are also invited to submit comments regarding this proposal by name and/or OMB Control Number and can be sent to: Anna Guido, Reports Management Officer, REE, Department of Housing and Urban Development, 451 7th Street SW, Room 8210, Washington, DC 20410-5000 or email at PaperworkReductionActOffice@hud.gov.

FOR FURTHER INFORMATION CONTACT: Anna Guido, Reports Management Officer, Department of Housing and Urban Development, 451 7th Street SW, Washington, DC 20410; email Anna Guido at Anna.P.Guido@hud.gov, telephone 202-402-5535 (this is not a toll-free number). HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A.

A. Overview of Information Collection

Title of Information Collection: Data Collection for HUD's Innovative Housing Showcase.

OMB Approval Number: 2528-New.

Type of Request: New Collection.

Form Number: N/A.

Description of the need for the information and proposed use: HUD seeks to collect information that will be used to identify exhibitors for the Innovative Housing Showcase (Showcase). HUD accepts applications for the Showcase. A template application form will streamline information collection. Below is a brief description of the Innovative Housing Showcase: The Innovative Housing Showcase (Showcase) is a public event to raise awareness of new, innovative housing technologies, especially offsite constructed or factory-built housing. HUD is seeking potential exhibitors who have developed innovative housing technologies to show their technologies to the public.

Respondents: Product manufacturers, innovators, and construction industry stakeholders.

Estimated Number of Respondents: 100.

Estimated Number of Responses: 100.

Frequency of Response: Once annually.

Average Hours per Response: 3 hours.

Total Estimated Burdens: 300 hours.

Estimated Total Annual Cost: The cost to respondents to complete an application is estimated at the marketing manager median hourly wage rate ($76.10) for 3 hours of work. The total estimated cost is $22,830.

Information collection | Number of respondents | Frequency of response | Responses per annum | Burden hour per response | Annual burden hours | Hourly cost per response | Annual cost
Innovative Housing Showcase | 100 | 1 | 100 | 3 | 300 | $76.10 | $22,830

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses. HUD encourages interested parties to submit comments in response to these questions.

C. Authority

Section 3507 of the Paperwork Reduction Act of 1995, 44 U.S.C. 3507.

Todd M. Richardson,
General Deputy Assistant Secretary for Policy, Development and Research.

[FR Doc. 2023-19971 Filed 9-14-23; 8:45 am]

BILLING CODE 4210-67-P